DEPARTMENT OF ENERGY

Federal Energy Regulatory Commission

[Docket No. RM01-5-000]

Electronic Tariff Filings; Notice of Posting Regarding Filing Procedures for Electronically Filed Tariffs

May 21, 2010.

Take Notice that the attached document “Filing Procedures For Electronically Filed Tariffs, Rate Schedules And Jurisdictional Agreements” has been posted on the eTariff Web site (http://www.ferc.gov/docs-filing/etariff.asp) under Commission Orders and Notices at http://www.ferc.gov/docs-filing/etariff/com-order.asp.

For further information, please contact Keith Pierce at 202-502-8525 or Andre Goodson at 202-502-8560, or through e-mail to etariff@ferc.gov.

Kimberly D. Bose,
Secretary.

Filing Procedures for Electronically Filed Tariffs, Rate Schedules and Jurisdictional Agreements

In Order No. 714,¹ the Commission adopted regulations requiring that, starting April 1, 2010, and for a transition period through September 30, 2010, all tariffs, rate schedules, and jurisdictional agreements, and revisions to such documents, filed with the Commission must be filed electronically according to a format provided in the Implementation Guide.² Based on issues that have arisen on some of the baseline tariff filings, and inquiries, this notice describes procedures for making electronic tariff filings.³ Electronic tariff filings that do not comply with these requirements are subject to rejection.

¹ Electronic Tariff Filings, Order No. 714, FERC Stats. & Regs. ¶ 31,276 (2008).

² The data elements and communication protocol are described in the Implementation Guide for Electronic Filing of Parts 35, 154, 284, 300, and 341 Tariff Filing (Implementation Guide), available at http://www.ferc.gov/docs-filing/etariff/implementation-guide.pdf.

³ As indicated in Order No. 714, this phrase is intended to encompass rate schedule and jurisdictional agreement filings as well. Order No. 714, at P 13 n.11.

• Once a Baseline Tariff Filing Has Been Made, All Tariff Filings Must be Made Electronically Pursuant to the Order No. 714 Guidelines.

Once a company makes its baseline tariff filing in compliance with Order No. 714, the company must make all subsequent filings of tariffs, rate schedules, and jurisdictional agreements in the Order No. 714 baseline tariff filing format. As provided in Order No. 714, this requirement is not limited to tariffs or to modifications of the baseline tariff filing, but encompasses all the company's other tariffs, rate schedules, and jurisdictional agreements, and all filings revising, withdrawing, or otherwise affecting such documents or the effective dates of such provisions. For example, natural gas negotiated rate agreements and non-conforming service agreements, electric rate schedules, transmission, power sale, and ancillary service agreements, interconnection agreements, and all other jurisdictional agreements are covered by this requirement. As described below, this requirement also applies to tariff filings related to periods earlier than the baseline filing. Once the Office of the Secretary accepts a company's baseline tariff filing for processing, the company should not make any further tariff related filings on paper or electronically in a format that does not comply with the electronic filing format required by Order No. 714.

• Required Tariff Documents To Be Included With an Electronic Tariff Filing.

As part of an electronic tariff filing, companies must include as tariff records 1) a copy of the proposed tariff provision, and 2) the plain text of the tariff provision. In addition as attachments, companies must include 3) a clean copy of the tariff provision and 4) the marked text of the provision (when required).

• Electronic Tariff Filings for Periods Earlier Than the Baseline Filing.

The electronic tariff software will not accept electronic tariff filings with tariff records that have a proposed effective date earlier than the effective date associated with the tariff identification number for the baseline filing. Companies may have outstanding compliance obligations or rates for prior, locked-in periods that need to be filed with the Commission or may need to propose changes to parts of a company's tariffs that were not part of the baseline tariff filing. Such filings should be made in the following manner:

○ The compliance or other provision applicable to the period after the baseline tariff filing has been accepted by the Secretary for processing must be made in the electronic tariff filing format required by Order No. 714.

○ Tariff provisions governing periods earlier than the baseline filing must be included either as part of the transmittal letter or as a separate attachment, unless the company and its customers have waived the need to file tariff provisions for the earlier periods.

As an example, if a company with a baseline tariff effective April 15, 2010, has an outstanding compliance filing with an effective date of January 1, 2010, that the Commission accepts, the company must file the compliance tariff provisions as tariff records in accordance with the electronic file format of Order No. 714 with an effective date of April 15, 2010. The company also should file the tariff provisions with a January 1, 2010, effective date either as part of the transmittal letter or as a separate attachment.

• FASTR Requirements for Natural Gas Pipelines.

FASTR will be retired after the baseline tariff filings have been made and the current FASTR configuration for each company as of September 30, 2010, will be added to the Commission's database as historical records. Once a baseline tariff filing has been made, pipelines are no longer required to submit records in FASTR format. However, companies that wish to update their FASTR records for past periods may submit an electronic version in the FASTR ASCII file format as an attachment.

[FR Doc. 2010-12860 Filed 5-27-10; 8:45 am]

BILLING CODE 6717-01-P